DEPARTMENT OF TRANSPORTATION

Federal Aviation Administration

14 CFR Part 71

[Docket No. FAA-2019-0660; Airspace Docket No. 18-AWP-13]

RIN 2120-AA66

Proposed Amendment and Establishment of Multiple Air Traffic Service (ATS) Routes; Western United States

AGENCY: Federal Aviation Administration (FAA), DOT.

ACTION: Notice of proposed rulemaking (NPRM).

SUMMARY: This action proposes to amend two high altitude United States Area Navigation (RNAV) Air Traffic Service (ATS) routes (Q-13 and Q-15), establish one high altitude RNAV ATS route (Q-174), and establish five low altitude RNAV ATS routes (T-338, T-357, T-359, T-361, and T-363) in the western United States. The proposed Q and T routes will facilitate the movement of aircraft to, from, and through the Las Vegas terminal area. Additionally, the routes will promote operational efficiencies for users and provide connectivity to current and proposed RNAV enroute procedures while enhancing capacity for adjacent airports.

DATES: Comments must be received on or before November 12, 2019.

ADDRESSES: Send comments on this proposal to the U.S. Department of Transportation, Docket Operations, 1200 New Jersey Avenue SE, West Building Ground Floor, Room W12-140, Washington, DC 20590; telephone: 1 (800) 647-5527, or (202) 366-9826. You must identify FAA Docket No. FAA-2019-0660; Airspace Docket No. 18-AWP-13 at the beginning of your comments. You may also submit comments through the internet at http://www.regulations.gov.

FAA Order 7400.11D, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Kenneth Ready, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to support the flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2019-0660; Airspace Docket No. 18-AWP-13) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2019-0660; Airspace Docket No. 18-AWP-13.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Western Service Center, Operations Support Group, Federal Aviation Administration, 2200 South 216th St., Des Moines, WA 98198.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The Las Vegas Metroplex Project developed Performance Based Navigation (PBN) routes involving the Los Angeles Air Route Traffic Control Center (ARTCC) and the Las Vegas Approach Control (TRACON). The airports considered in the Las Vegas Metroplex were McCarran International Airport (KLAS), Henderson Executive Airport (KHND), North Las Vegas Airport (KVGT), and Boulder City Municipal Airport (KBVU). Nellis Air Force Base (KLSV—a Department of Defense [DoD] facility) also has an impact on Las Vegas operations, and was involved in the Metroplex design process.

The Metroplex design team considered numerous alternatives in the development of the proposed ATS routes For each individual concept, the team went through an iterative design process, considering alternative lateral and vertical paths, various speed and altitude restrictions, alternative leg types, different segregation options, and various charting considerations. The development of new PBN procedures was particularly challenging due to constraints created by an abundance of DoD/Special Use Airspace (SUA), National Parks, terrain, and interactions between airport traffic flows. In the development of procedures, the team elected to provide the most benefit for the widest range of users.

The proposed new T and Q-routes, as well as the amended Q-routes, would support the strategy to transition the NAS from a ground-based navigation and radar based system to a satellite-based PBN system. The airway proposals in this NPRM are designed to work hand-in-hand with the upcoming Las Vegas Metroplex terminal procedures. The proposed Q and T routes will facilitate the movement of aircraft to, from, and through the Las Vegas Terminal Area. Taking advantage of the capabilities of the advanced flight management systems in modern aircraft, these Q and T routes would serve to reduce air traffic control (ATC) sector complexity, increase NAS capacity, reduce pilot-to-air traffic controller communications, and allow aircraft to be cleared to their cruising altitude and flight planned route more expeditiously.

The Proposal

The FAA is proposing an amendment to Title 14 Code of Federal Regulations (14 CFR) part 71 to amend United States RNAV ATS routes Q-13 and Q-15 and establish United States RNAV ATS routes Q-174, T-338, T- 357, T-359, T-361, and T-363 as part of the Las Vegas Metroplex Project. Full route descriptions are detailed in the proposed amendments to 14 CFR part 71 set forth below.

The proposed amended ATS routes are as follows:

Q-13: Q-13 currently extends from PRFUM, AZ, waypoint (WP) to PAWLI, OR, WP. The proposed amended route would begin at El Paso, TX, VORTAC (ELP) and end at PAWLI, OR, WP. The route would be extended approximately 180 miles to the southeast of PRFUM, AZ, WP to the El Paso, TX, VORTAC. The VERNO, AZ, WP; NABOB, AZ, WP; Drake, AZ, VORTAC (DRK); and WOTRO, AZ, WP would be added prior to PRFUM, AZ WP. The HOUZZ, NV; FUULL, NV, and SKANN, AZ, WPs would be added between PRFUM, AZ, WP and the LOMIA, NV, WP. No proposed changes to the ATS route after LOMIA, AZ, WP. Moving Q-13 to the west and beginning the route at El Paso, TX, VORTAC (ELP) will segregate overflight traffic on Q-13 from McCarran International Airport (KLAS) arrival and departure traffic on the new KLAS COKTL Standard Terminal Arrival Route (STAR) and KLAS JOHKR Standard Instrument Departure (SID). By segregating the Q-route from inbound and outbound traffic, KLAS departures can be assigned requested altitudes sooner. This will also allow Oakland ARTCC to deliver KLAS arrival traffic to Los Angeles ARTCC at higher altitudes than current state, and will provide the opportunity for optimized profile descents.

Q-15: Q-15 currently extends from CHILY, AZ, FIX to LOMIA, NV, WP. The proposed amended route would add SOTOO, NV; HOUZZ, NV; FUULL, NV; and SKANN, NV, WPs between DOVEE, NV and LOMIA, NV, WPs. The purpose of this routing is to segregate overflight traffic on Q-15 from Las Vegas McCarran (KLAS) arrival and departure traffic.

The proposed new ATS routes are as follows:

Q-174: Q-174 would extend between the NTELL, CA, WP to the FLCHR, NV, WP. Q-174 will provide connectivity from the California Bay Area airports to Las Vegas McCarran and North Las Vegas airports. This route will also provide an efficient path to navigate around active special use airspace and facilitate arrival sequencing to Las Vegas McCarran and satellite airports.

T-338: T-338 would extend between the DSIRE, NV, WP to the BOEGY, AZ, WP. T-338 will provide a lateral path for arrivals and departures to the North Las Vegas Airport (KVGT), Boulder City Municipal Airport (KBVU) and McCarran International Airport (KLAS). Additionally, it will serve propeller aircraft arriving at KVGT and KLAS from points east or that are departing from KVGT and KLAS to points east.

T-357: T-357 would extend between the KONNG, NV, WP to the DSIRE, NV, WP. T-357 will provide a predictable and repeatable path for overflights through the Las Vegas TRACON airspace and serve as an arrival/departure airway for North Las Vegas Airport (KVGT), Henderson Executive Airport (KHND), Boulder City Municipal Airport (KBVU) and McCarran International Airport (KLAS) aircraft.

T-359: T-359 would extend between the DANBY, CA, WP to the DSIRE, NV, WP. T-359 will provide a predictable and repeatable path for overflights through the Las Vegas TRACON airspace and serve as an arrival/departure airway for North Las Vegas Airport (KVGT), Henderson Executive Airport (KHND), Boulder City Municipal Airport (KBVU) and McCarran International Airport (KLAS) aircraft. T-359 will reduce the current requirement for air traffic control facilities to issue radar vectors or itinerant routing for North Las Vegas Airport (KVGT) arrivals/departures or overflights.

T-361: T-361 would extend between the BOEGY, AZ, WP to the Mormon Mesa, NV, VORTAC (MMM). T-361 will provide a predictable and repeatable flight path for aircraft flying through the Las Vegas TRACON airspace and to serve as an arrival/departure airway for McCarran International Airport (KLAS), North Las Vegas Airport (KVGT), Boulder City Municipal Airport (KBVU) and Henderson Executive Airport (KHND). T-361 will reduce the current requirement for air traffic control facilities to issue radar vectors or itinerant routing for KLAS and KHND.

T-363: T-363 would extend between the DICSA, NV, FIX to the Mormon Mesa, NV, VORTAC (MMM). T-363 will provide a predictable and repeatable path for propeller-driven arrivals and departures to and from Henderson Executive Airport (KHND), Boulder Municipal City Airport (KBVU), and Las Vegas McCarran International Airport to and from points north and northeast.

United States Area Navigation Routes are published in paragraph 2006 and 6011 of FAA Order 7400.11D dated August 8, 2019, and effective September 15, 2019, which is incorporated by reference in 14 CFR 71.1. The United States Area Navigation Routes listed in this document will be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 2006 United States Area Navigation Routes.

* * * * *

Q-13 El Paso, TX (ELP) to PAWLI, OR [Amended]
El Paso, TX (ELP) | VORTAC | (Lat. 31°48′ 57.28″ N, long. 106°16′ 54.78″ W)
VERNO, AZ | FIX | (Lat. 34°15′ 38.47″ N, long. 109°37′ 37.98″ W)
NABOB, AZ | FIX | (Lat. 34°19′ 40.60″ N, long. 111°18′ 53.90″ W)
Drake, AZ (DRK) | VORTAC | (Lat. 34°42′ 09.19″ N, long. 112°28′ 49.23″ W)
WOTRO, AZ | WP | (Lat. 35°10′ 07.89″ N, long. 113°19′ 15.68″ W)
PRFUM, AZ | WP | (Lat. 35°30′ 24.46″ N, long. 113°56′ 34.85″ W)
HOUZZ, NV | WP | (Lat. 36°36′ 43.75″ N, long. 116°36′ 37.60″ W)
FUULL, NV | WP | (Lat. 37°16′ 52.93″ N, long. 117°10′ 13.96″ W)
SKANN, NV | WP | (Lat. 37°22′ 52.68″ N, long. 117°15′ 54.53″ W)
LOMIA, NV | WP | (Lat. 39°13′ 11.57″ N, long. 119°06′ 22.95″ W)
RUFUS, CA | WP | (Lat. 41°26′ 00.00″ N, long. 120°00′ 00.00″ W)
PAWLI, OR | WP | (Lat. 43°10′ 48.00″ N, long. 120°55′ 50.00″ W)

* * * * *

Q-15 DOVEE, NV to LOMIA, NV [Amended]
CHILY, AZ | WP | (Lat. 34°42′ 48.61″ N, long. 112°45′ 42.27″ W)
DOVEE, NV | WP | (Lat. 35°26′ 51.07″ N, long. 114°48′ 00.94″ W)
SOTOO, NV | WP | (Lat. 36°17′ 22.55″ N, long. 116°13′ 14.12″ W)
HOUZZ, NV | WP | (Lat. 36°36′ 43.75″ N, long. 116°36′ 37.60″ W)
FUULL, NV | WP | (Lat. 37°16′ 52.93″ N, long. 117°10′ 13.96″ W)
SKANN, NV | WP | (Lat. 37°22′ 52.68″ N, long. 117°15′ 54.53″ W)
LOMIA, NV | WP | (Lat. 39°13′ 11.57″ N, long. 119°06′ 22.95″ W)

* * * * *

Q174 NTELL, CA to FLCHR, NV [New]
NTELL, CA | WP | (Lat. 36°53′ 58.99″ N, long. 119°53′ 22.21″ W)
CABAB, CA | WP | (Lat. 37°16′ 36.00″ N, long. 118°43′ 12.00″ W)
TTMSN, CA | WP | (Lat. 37°21′ 11.49″ N, long. 117°40′ 54.51″ W)
SKANN, NV | WP | (Lat. 37°22′ 52.68″ N, long. 117°15′ 54.53″ W)
FLCHR, NV | WP | (Lat. 37°06′ 02.27″ N, long. 116°52′ 31.36″ W)

* * * * *

Paragraph 6011 United States Area Navigation Routes.

* * * * *

T-338 DSIRE, NV to BOEGY, AZ [New]
DSIRE, NV | WP | (Lat. 36°13′ 40.62″ N, long. 115°14′ 26.15″ W)
LNDIN, NV | WP | (Lat. 36°13′ 03.54″ N, long. 114°50′ 39.84″ W)
WYLND, NV | WP | (Lat. 36°09′ 26.64″ N, long. 114°24′ 58.20″ W)
BOEGY, AZ | WP | (Lat. 36°05′ 21.17″ N, long. 114°03′ 33.41″ W)

* * * * *

T-357 KONNG, NV to DSIRE, NV [New]
KONNG, NV | WP | (Lat. 35°27′ 39.39″ N, long. 114°57′ 02.15″ W)
DICSA, NV | FIX | (Lat. 35°52′ 05.33″ N, long. 115°02′ 15.10″ W)
WANDR, NV | WP | (Lat. 36°05′ 33.54″ N, long. 115°06′ 40.87″ W)
DSIRE, NV | WP | (Lat. 36°13′ 40.62″ N, long. 115°14′ 26.15″ W)

T-359 DANBY, CA to DSIRE, NV [New]
DANBY, CA | FIX | (Lat. 35°18′ 41.17″ N, long. 115°47′ 09.11″ W)
DICSA, NV | FIX | (Lat. 35°52′ 05.33″ N, long. 115°02′ 15.10″ W)
RAATT, NV | WP | (Lat. 36°04′ 42.74″ N, long. 115°13′ 04.33″ W)
DSIRE, NV | WP | (Lat. 36°13′ 40.62″ N, long. 115°14′ 26.15″ W)

T-361 BOEGY, AZ to MORMON MESA, NV [New]
BOEGY, AZ | WP | (Lat. 36°05′ 21.17″ N, long. 114°03′ 33.41″ W)
PUTTT, AZ | WP | (Lat. 35°50′ 09.62″ N, long. 114°40′ 35.63″ W)
DICSA, NV | FIX | (Lat. 35°52′ 05.33″ N, long. 115°02′ 15.10″ W)
WANDR, NV | WP | (Lat. 36°05′ 33.54″ N, long. 115°06′ 40.87″ W)
LNDIN, NV | WP | (Lat. 36°13′ 03.54″ N, long. 114°50′ 39.84″ W)
SHIEK, NV | WP | (Lat. 36°24′ 00.96″ N, long. 114°27′ 01.91″ W)
Mormon Mesa, NV, (MMM) | VORTAC | (Lat. 36°46′ 09.31″ N, long. 114°16′ 38.83″ W)

T-363 DICSA, NV, to Mormon Mesa, NV (MMM) [New]
DICSA, NV | FIX | (Lat. 35°52′ 05.33″ N, long. 115°02′ 15.10″ W)
PUTTT, AZ | WP | (Lat. 35°50′ 09.62″ N, long. 114°40′ 35.63″ W)
SHIEK, NV | WP | (Lat. 36°24′ 00.96″ N, long. 114°27′ 01.91″ W)
MORMON MESA, NV (MMM) | VORTAC | (Lat. 36°46′ 09.31″ N, long. 114°16′ 38.83″ W)

Issued in Washington, DC, on September 18, 2019.
Scott M. Rosenbloom,
Acting Manager, Airspace Policy Group.

[FR Doc. 2019-20716 Filed 9-25-19; 8:45 am]

BILLING CODE 4910-13-P